DEPARTMENT OF HEALTH AND HUMAN SERVICES

Health Care Financing Administration

Notice of Hearing: Reconsideration of Disapproval of Utah State Children's Health Insurance Program (SCHIP) State Plan Amendment (SPA)

AGENCY: Health Care Financing Administration (HCFA), HHS.

ACTION: Notice of hearing.

SUMMARY: This notice announces an administrative hearing on March 17, 2000; 10 a.m.; Seventh Floor (Suite 700); Keystone Room; 1600 Broadway; Denver, Colorado 80202 to reconsider our decision to disapprove Utah SCHIP SPA.

CLOSING DATE: Requests to participate in the hearing as a party must be received by the presiding officer by March 21, 2000.

FOR FURTHER INFORMATION CONTACT: Kathleen Scully-Hayes, Presiding Officer, HCFA, C1-09-13, 7500 Security Boulevard, Baltimore, Maryland 21244, Telephone: (410)-786-2055.

SUPPLEMENTARY INFORMATION: This notice announces an administrative hearing to reconsider our decision to disapprove Utah State Children's Health Insurance Program (SCHIP) State Plan amendment (SPA).

Section 1116 of the Social Security Act (the Act) and 42 CFR part 430 that provide a State with an opportunity for an administrative hearing for reconsideration of a disapproval of a State plan or plan amendment. Section 2107 (e)(2)(B) of the Act makes these provisions applicable under Title XXI to SCHIP State Plans and State Plan amendments. Under these provisions, the Health Care Financing Administration (HCFA) is required to publish a copy of the notice to a State that informs the State of the time and place of the hearing and the issues to be considered. If we subsequently notify the State of additional issues that will be considered at the hearing, we will also publish that notice.

Any individual or group that wants to participate in the hearing as a party must petition the presiding officer within 15 days after publication of this notice, in accordance with the requirements contained at 42 CFR 430.76 (b)(2). Any interested person or organization that wants to participate as amicus curiae must petition the presiding officer before the hearing begins in accordance with the requirements contained at 42 CFR 430.76 (c). If the hearing is later rescheduled, the presiding officer will notify all participants.

The notice to Utah announcing an administrative hearing to reconsider the disapproval of its SPA reads as follows:

Mr. Rod L. Betit, Executive Director, Utah Department of Health, 288 North 1460 West, Salt Lake City, Utah 84114

Dear Mr. Betit:

I am responding to your request for reconsideration of the decision to disapprove the Utah State Children's Health Insurance Program State Plan Amendment submitted on January 28, 1999.

HCFA disapproved Utah's SCHIP State Plan Amendment because it requested approval, retroactive to August 3, 1998, for the State to impose cost-sharing amounts higher than permitted under Medicaid on SCHIP beneficiaries with family incomes at or below 100 percent of the Federal poverty level (FPL). Section 2103 (e)(3)(A)(ii) of the Social Security Act limits SCHIP cost-sharing amounts for children in families with incomes below 150 percent of FPL to the amounts permitted under Medicaid, “with such appropriate adjustment for inflation or such other reasons as the Secretary determines to be reasonable.” The Secretary has determined that it would not be reasonable to adjust the Medicaid maximum cost-sharing amounts for SCHIP beneficiaries at or below 100 percent of FPL.

I am scheduling a hearing on your request for reconsideration to be held on March 17, 2000; 10 a.m.; Seventh Floor (Suite 700); Keystone Room; 1600 Broadway; Denver, Colorado 80202.

If this date is not acceptable, we would be glad to set another date that is mutually agreeable to the parties. The hearing will be governed by the procedures prescribed at 42 CFR, part 430.

The issue to be considered at the hearing is whether the Secretary acted within her discretionary authority under Section 2103(e)(3)(A)(ii) of the Social Security Act in determining that it would not be reasonable to adjust the Medicaid maximium cost-sharing amounts under 42 CFR 447.54 for SCHIP beneficiaries at or below 100 percent of FPL.

I am designating Ms. Kathleen Scully-Hayes as the presiding officer. If these arrangements present any problems, please contact the presiding officer. In order to facilitate any communication which may be necessary between the parties to the hearing, please notify the presiding officer to indicate acceptability of the hearing date that has been scheduled and provide names of the individuals who will represent the State at the hearing. The presiding officer may be reached at (410) 786-2055.

Sincerely,

Nancy-Ann Min DeParle,

Administrator.

Authority: Section 1116 of the Social Security Act (42 U.S.C. section 1316); (42 CFR section 430.18).

(Catalog of Federal Domestic Assistance Program No. 13.714, Medicaid Assistance Program)
Dated: February 25, 2000.
Nancy-Ann Min DeParle,
Administrator, Health Care Financing Administration.

[FR Doc. 00-5270 Filed 3-3-00; 8:45 am]

BILLING CODE 4120-01-U